FEDERAL RESERVE SYSTEM

Formations of, Acquisitions by, and Mergers of Bank Holding Companies; Correction

This notice corrects a notice (FR Doc. 05-19135) published on pages 56166 and 56167 of the issue for Monday, September 26, 2005.

Under the Federal Reserve Bank of New York heading, the entry for The Toronto-Dominion Bank, Toronto, Canada, and TD Banknorth Inc., Portland, Maine, is revised to read as follows:

A. Federal Reserve Bank of New York (Jay Bernstein, Bank Supervision Officer) 33 Liberty Street, New York, New York 10045-0001:

1. The Toronto-Dominion Bank, Toronto, Ontario, Canada, and TD Banknorth Inc., Portland, Maine; to acquire 100 percent of the voting shares of Hudson United Bancorp, Mahwah, New Jersey, and thereby indirectly acquire voting shares of Hudson United Bancorp, Mahwah, New Jersey.

Comments on this application must be received by October 20, 2005.

Board of Governors of the Federal Reserve System, September 29, 2005.
Robert deV. Frierson,
Deputy Secretary of the Board.

[FR Doc. E5-5416 Filed 10-3-05; 8:45 am]

BILLING CODE 6210-01-S